DEPARTMENT OF ENERGY

Federal Energy Regulatory Commission

[Docket No. PF09-3-000; BLM Reference No. UTU-87295]

Magnum Gas Storage, LLC; Notice of Intent To Prepare an Environmental Assessment for the Proposed Magnum Gas Storage Project and Draft Pony Express Resource Management Plan Amendment for the Bureau of Land Management, Request for Comments on Environmental Issues, and Notice of Public Scoping Meetings

June 18, 2009.

The staff of the Federal Energy Regulatory Commission (FERC or Commission) will prepare an environmental assessment (EA) and the staff of the Bureau of Land Management (BLM) will prepare a Draft Pony Express Resource Management Plan Amendment (Draft RMP Amendment). The EA and the Draft RMP Amendment will discuss the environmental impacts of the construction and operation of a new interstate natural gas storage facility and pipeline lateral, located in central Utah, proposed by Magnum Gas Storage, LLC (MGS) as part of its Magnum Gas Storage Project (Project).

This notice announces the opening of the scoping process that will be used to gather input from the public and interested agencies on the Project. Your input will help the Commission staff and cooperating agencies determine which issues need to be evaluated in the EA/Draft RMP Amendment. The staff will also use the scoping process to determine whether preparation of an environmental impact statement is required for this Project based on the anticipated level of impacts. Please note that the scoping period for this Project will close on July 27, 2009.

Comments may be submitted in written form or verbally. Further details on how to submit written comments are provided in the Public Participation section of this notice. In lieu of or in addition to sending written comments, you are invited to attend public scoping meetings scheduled in the Project area where you can verbally comment on the proposed Project. These meetings are scheduled as follows:

Date | Location
Tuesday, July 7, 2009 at 6 p.m. (MST) | Juab County School District, 346 E. 600 N. Street, Nephi, UT 84648.
Wednesday, July 8, 2009 at 6 p.m. (MST) | Millard County School District, 285 E. 400 N., Delta, UT 84624.

Interested groups and individuals are encouraged to attend the meetings and to present comments on the environmental issues they believe should be addressed in the EA/Draft RMP Amendment. A transcript of the meeting will be generated so that your comments will be accurately recorded.

The FERC will be the lead federal agency for the preparation of the EA and the BLM will be the lead federal agency for the preparation of the Draft RMP Amendment. The EA will satisfy the requirements of the National Environmental Policy Act (NEPA) and will be used by the FERC to consider the environmental impacts that could result if it issues MGS a Certificate of Public Convenience and Necessity under section 7 of the Natural Gas Act.

The BLM is participating as a cooperating agency in the preparation of the EA to satisfy its respective NEPA and planning responsibilities since the Project would cross federal land under the jurisdiction of the Fillmore and Salt Lake Field Offices in Utah. Under section 185(f) of the Mineral Leasing Act of 1920, the BLM has the authority to issue right-of-way grants for all affected federal lands. This would be in accordance with Title 43 Code of Federal Regulations (CFR) Parts 2800 and 2880, subsequent 2800 and 2880 Manuals, and Handbook 2801-1. As a cooperating agency, the BLM would adopt the EA per Title 40 CFR 1506.3 to meet its responsibilities under NEPA in considering MGS's application for a Right-of-Way Grant and Temporary Use Permit for the portion of the Project on federal land. In addition, the U.S. Forest Service (FS) will participate as a cooperating agency because FS land may be impacted. The concurrence or non-concurrence of the FS would be considered in the BLM's decision as well as impacts on resources and programs and the proposed Project's conformance with land use plans as well as the proposed land use plan amendment for the Pony Express RMP.

With this notice, the FERC staff is asking other federal, state, local, and tribal agencies with jurisdiction and/or special expertise with respect to environmental issues to cooperate with us in the preparation of the EA. In addition, the BLM is asking other federal, state, local, and tribal agencies to cooperate in the review of the plan amendment process. These agencies may choose to participate once they have evaluated MGS's proposal relative to their responsibilities. Agencies that would like to request cooperating agency status should follow the instructions for filing comments described later in this NOI.

This notice is being sent to affected landowners; federal, state, and local government representatives and agencies; environmental and public interest groups; Native American tribes; other interested parties in this proceeding; and local libraries and newspapers. We ¹ encourage government representatives to notify their constituents of this planned Project and encourage them to comment on their areas of concern.

¹ “We,” “us,” and “our” refer to the environmental staff of the Office of Energy Projects (OEP).

If you are a landowner receiving this notice, you may be contacted by a pipeline company representative about the acquisition of an easement to construct, operate, and maintain the proposed facilities. The pipeline company would seek to negotiate a mutually acceptable agreement. However, if the Project is approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the Commission's proceedings.

Summary of the Proposed Project

The proposed development of the Project would include construction and operation of an underground natural gas storage field with a capacity of 64 billion cubic feet (Bcf) on state and private land near the town of Delta in Millard County; Utah, and a 60-mile, 36-inch-diameter natural gas pipeline lateral linking the gas storage facility with existing interstate gas transmission pipelines at an interconnect site north of Goshen, Utah. The pipeline lateral could potentially cross private, state, FS and BLM public lands in Millard, Juab, and Utah Counties.

The Project would consist of the following facilities:

• Eight gas storage salt caverns each having a working gas capacity of 8 Bcf, 5.6 Bcf working capacity, and supported by 2.4 Bcf base gas;

• Approximately 60 miles of 36-inch-diameter natural gas pipeline;

• Water supply wells and associated water supply pipelines;

• Injection/withdrawal wells;

• Leaching facilities for solution mining and creation of caverns;

• Brine evaporation ponds required for brine management;

• Surface facilities for gas storage that would include central compression and gas handling facilities, valving and dehydration facilities, pig launchers/receivers and an operations center;

• Electric transmission lines;

• Meter and regulator stations, and

• A 4-inch-diameter natural gas supply pipeline extending approximately 9.3 miles to the storage site for temporary power generation.

The locations of the Project facilities are shown in Appendix 1.²

² The appendices referenced in this notice are not being printed in the Federal Register. Copies of all appendices are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

The proposed storage field site would be comprised of both state and private land totaling approximately 2,050 acres. Approximately 710 acres would be required for permanent facilities and 40 acres for temporary construction. Construction of the proposed pipeline would result in a temporary disturbance of approximately 708 acres.

The proposed 36-inch-diameter pipeline would generally be installed on BLM, state, and private land within a 100-foot-wide construction right-of-way. At certain locations (e.g., road, railroad, and waterbody crossings), extra workspaces would be required. MGS would retain a 50-foot-wide permanent right-of-way for the pipeline.

The EA/NEPA Process

NEPA requires the Commission to take into account the environmental impacts that could result from an action whenever it considers the issuance of a Certificate of Public Convenience and Necessity. The EA is being prepared to serve that purpose. NEPA also requires Commission staff and its cooperators to discover and address concerns the public may have about the proposal. This process is referred to as “scoping.” The main goal of the scoping process is to focus the analysis in the EA on the important environmental issues. By this NOI, the Commission and BLM staff request public comments on any issues that may arise during the scoping period and need to be addressed in the EA/Draft RMP Amendment. All scoping comments received will be considered during the preparation of the EA/Draft RMP Amendment.

In the EA, we will discuss impacts that could occur as a result of the construction and operation of the proposed Project under these general headings:

• Geology and soils;

• Mineral resources;

• Land use (recreation, aesthetics/visual resource management, special designations, and livestock grazing);

• Water resources, riparian zones, and wetlands;

• Cultural resources;

• Vegetation;

• Fisheries and wildlife;

• Endangered and threatened species;

• Air quality and noise; and

• Public safety.

We will also evaluate possible alternatives to the proposed Project, and make recommendations on how to lessen or avoid impacts on the various resource areas.

Although no formal application has been filed, we have already initiated our NEPA review under the Commission's Pre-filing Process. The purpose of the Pre-filing Process is to seek public and agency input early in the Project planning phase and encourage early involvement of interested stakeholders in a manner that allows for the early identification and resolution of environmental issues before an application is filed with the FERC. The BLM has agreed to conduct its work with all interested stakeholders to identify and attempt to address issues before and throughout the application process.

As part of our Pre-filing Process review, FERC has begun to contact some federal and state agencies to discuss their involvement in the scoping process and the preparation of the EA. In addition, representatives from the FERC participated in a public open house sponsored by MGS in Delta, Utah on March 3, 2009, to explain the environmental review process to interested stakeholders. On April 8, 2009, the FERC conducted an interagency meeting with agencies and MGS in Salt Lake City, Utah. The purpose of the meeting was to explain the FERC's process and solicit comments and concerns about the MGS's Project from other jurisdictional agencies.

Our independent analysis of the issues will be discussed in the EA. The EA/Draft RMP Amendment will be published and mailed to federal, state, and local agencies, public interest groups, interested individuals, affected landowners, newspapers, libraries, and the Commission's official service list for this proceeding.

A 30-day review and comment period will be provided when the EA/Draft RMP Amendment are published. The Proposed Plan Amendment for the Pony Express RMP will be provided a 30-day protest period at that time, commensurate with a 60-day Governor's Consistency Review in accordance with Title 43 CFR Part 1600. All comments on the EA will be considered before the recommendations to the Commission are made. To ensure your comments are considered, please carefully follow the instructions in the Public Participation section below.

The BLM's Plan Amendment Process

As discussed above, the EA will analyze the impacts of amending the Pony Express RMP to accommodate the Proposal. An amendment is required because the Pony Express RMP (1990) does not currently allow for major rights-of-way to be placed outside of identified utility corridors. Publication of this notice formally initiates the plan amendment process and begins the scoping process. An interdisciplinary approach will be used to develop the EA in order to consider a variety of resource issues and concerns identified. An amendment to the Pony Express RMP will be based upon the following planning criteria:

• The amendment will be completed in compliance with the Federal Land Policy and Management Act (FLPMA), NEPA and all other relevant Federal law, Executive Orders and management policies of the BLM;

• Where existing planning decisions are still valid, those decisions will remain unchanged and be incorporated into the new amendment;

• The amendment will recognize valid existing rights; and

• Native American Tribal consultations will be conducted in accordance with policy and tribal concerns will be given due consideration. The planning process would include the consideration of any impacts on Indian trust assets.

The BLM regulations in Title 43 CFR Part 1600 and the NEPA process detailed in the Council on Environmental Quality regulations in Title 40 CFR Parts 1500-1508 guide preparation of plan amendments. The process is tailored to the anticipated level of public interest and potential for significant impacts.

Plan amendments (see Title 43 CFR Part 1610.5-5) change one or more of the terms, conditions, or decisions of an approved land use plan. These decisions may include those relating to desired outcomes; measures to achieve desired outcomes, including resource restrictions; or land tenure decisions. Plan amendments are required to consider any proposal or action that does not conform to the plan.

An applicant may request that the BLM amend the land use plan to allow an otherwise non-conforming proposal. The amendment and any implementation actions (i.e., granting the Right-of-Way and Temporary Use Permit) may be considered together. However, at the decision stage, the land use plan decisions must be separated from the implementation decisions.

Currently Identified Environmental Issues

The EA will discuss impacts that could occur as a result of the construction and operation of the proposed Project. We have already identified several issues that we think deserve attention based on a preliminary review of the proposed facilities, comments made to us at the MGS's open house, preliminary consultations with other agencies, and the environmental information provided by MGS. This preliminary list of issues may be changed based on your comments and our analysis. Issues include, but are not limited to:

• Cultural resources that may be affected by the Project;

• Potential impacts on streams, riparian zones, and wetlands;

• Rights-of-way required for proposed pipeline crossing of federal lands managed by the BLM and the FS;

• Cumulative impacts of the proposed facilities combined with past, present, and reasonable foreseeable Projects; and

• Assessment of alternatives, including alternative routes, that would avoid or reduce impacts on private and federal lands.

Public Participation

You can make a difference by providing us with your specific comments or concerns about MGS's proposal. Your comments should focus on the potential environmental effects, reasonable alternatives, and measures to avoid or lessen environmental impacts. The more specific your comments, the more useful they will be. To ensure that your comments are timely and properly recorded, please send in your comments so that they will be received in Washington, DC on or before July 27, 2009.

For your convenience, there are three methods, which you can use to submit written comments to the Commission. In all instances please reference the Project docket numbers PF09-3-000 with your submission. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a Project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 2, PJ-11.2.

You may also submit oral comments at one of two public scoping meetings identified earlier in this NOI.

Becoming an Intervenor

Once MGS formally files its applications with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until formal applications are filed with the Commission.

Environmental Mailing List

An effort is being made to send this notice to all individuals, organizations, and government entities interested in and/or potentially affected by the proposed Project. This includes all landowners who are potential right-of-way grantors, whose property may be used temporarily for Project purposes, or who own homes within certain distances of aboveground facilities (as defined in the Commission's regulations).

If you do not want to send comments at this time but still want to remain on our mailing list, please return the Information Request (Appendix 2). If you do not return the Information Request, you will be taken off the mailing list.

Availability of Additional Information

Additional information about the Project is available from the Commission's Office of External Affairs, at 1-866-208-FERC or on the FERC Internet Web site (http://www.ferc.gov) using the eLibrary link. Click on the eLibrary link, click on “General Search” and enter the docket number excluding the last three digits (i.e., PF09-3) in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription, which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E9-14933 Filed 6-24-09; 8:45 am]

BILLING CODE 6717-01-P